OFFICE OF PERSONNEL MANAGEMENT

Excepted Service

AGENCY: Office of Personnel Management.

ACTION: Notice.

SUMMARY: This gives notice of OPM decisions, granting authority to make appointments under Schedule C in the excepted service as required by 5 CFR 6.1 and 213.103.

FOR FURTHER INFORMATION CONTACT: Pam Shivery, Director, Washington Service Center, Employment Service (202) 606-1015.

SUPPLEMENTARY INFORMATION: Appearing in the listing below are the individual authorities established under Schedule C between July 1, 2002 and July 31, 2002. Future notices will be published on the fourth Tuesday of each month, or as soon as possible thereafter. A consolidated listing of all authorities as of June 30 is published each year.

Schedule C

Broadcasting Board of Governors

Chief of Staff to the Director, Office of Cuba Broadcasting. Effective July 31, 2002.

Department of Agriculture

Confidential Assistant to the Administrator, Foreign Agricultural Service. Effective July 2, 2002.

Special Assistant to the Deputy Assistant Secretary for Administration. Effective July 17, 2002.

Department of the Army (DOD)

Personal and Confidential Assistant to the Assistant Secretary of the Army (Installations and Environment). Effective July 4, 2002.

Department of Commerce

Public Affairs Specialist to the Director of Public Affairs. Effective July 8, 2002.

Special Assistant to the Assistant Secretary for Economic Development. Effective July 17, 2002.

Confidential Assistant to the Assistant Secretary for Export Enforcement. Effective July 24, 2002.

Department of Defense

Public Affairs Specialist to the Deputy Assistant Secretary of Defense for Public Affairs. Effective July 10, 2002.

Special Assistant to the Assistant Secretary of Defense for Legislative Affairs. Effective July 12, 2002.

Department of Education

Special Assistant to the Chief of Staff, Office of the Deputy Secretary. Effective July 2, 2002.

Special Assistant to the Chief of Staff, Office of the Under Secretary. Effective July 2, 2002.

Special Assistant to the Chief Financial Officer. Effective July 2, 2002.

Special Assistant to the Chief of Staff. Effective July 2, 2002.

Confidential Assistant to the Chief Financial Officer. Effective July 8, 2002.

Special Assistant to the Deputy Assistant Secretary for Management. Effective July 9, 2002.

Confidential Assistant to the Chief of Staff. Effective July 11, 2002.

Special Assistant to the Assistant Secretary, Office of Elementary and Secondary Education. Effective July 11, 2002.

Special Assistant to the Chief of Staff, Office the Under Secretary. Effective July 15, 2002.

Special Assistant to the Chief Financial Officer. Effective July 16, 2002.

Special Assistant to the Director, Office of Educational Technology. Effective July 16, 2002.

Confidential Assistant to the Chief of Staff. Effective July 22, 2002.

Special Assistant to the Director, Office of Public Affairs. Effective July 24, 2002.

Confidential Assistant to the Assistant Secretary for Vocational and Adult Education. Effective July 29, 2002.

Department of Energy

Executive Assistant to the Assistant Secretary for Fossil Energy. Effective July 24, 2002.

Confidential Advisor to the Director, Office of Science. Effective July 24, 2002.

Department of Health and Human Services

Director of Communications to the Assistant Secretary of Health. Effective July 10, 2002.

Confidential Assistant to the Deputy Administrator and Chief Operating Officer. Effective July 23, 2002.

Confidential Assistant to the Assistant Secretary for Public Affairs. Effective July 24, 2002.

Department of Housing and Urban Development

Staff Assistant to the Assistant Secretary for Housing. Effective July 2, 2002.

Special Assistant to the Assistant Secretary for Public and Indian Housing. Effective July 8, 2002.

Deputy Assistant Secretary for Special Initiatives to the Assistant Secretary, Community Planning and Development. Effective July 9, 2002.

Special Assistant to the Assistant Secretary for Administration. Effective July 9, 2002.

Director, Office of Small and Business Utilization to the Deputy Secretary. Effective July 10, 2002.

Staff Assistant to the Senior Advisor, Office of the Deputy Secretary. Effective July 11, 2002.

Special Assistant to the Assistant Secretary for Congressional and Intergovernmental Relations. Effective July 24, 2002.

Staff Assistant to the President, Government National Mortgage Association. Effective July 25, 2002.

Department of the Interior

Director of Scheduling and Advance to the Chief of Staff. Effective July 8, 2002.

Counselor to the Assistant Secretary-Indian Affairs. Effective July 25, 2002.

Special Assistant to the Deputy Assistant Secretary, Policy and International Affairs. Effective July 26, 2002.

Assistant Director, Legislative and Congressional Affairs to the Director, National Park Service. Effective July 26, 2002.

Department of Justice

Senior Advisor to the Assistant Attorney General, Tax Division. Effective July 8, 2002.

Confidential Assistant to the Assistant Attorney General, Tax Division. Effective July 11, 2002.

Assistant to the Attorney General for Scheduling and Advance to the Director of Scheduling and Advance. Effective July 12, 2002.

Department of Labor

Staff Assistant to the Assistant Secretary for Disability Employment Policy. Effective July 3, 2002.

Staff Assistant to the Assistant Secretary for Public Affairs. Effective July 3, 2002.

Special Assistant to the Assistant Secretary for Public Affairs. Effective July 10, 2002.

Counsel to the Deputy Secretary of Labor. Effective July 15, 2002.

Chief of Staff to the Assistant Secretary for Policy. Effective July 16, 2002.

Special Assistant to the Administrator, Wage and Hour Division. Effective July 16, 2002.

Staff Assistant to the Secretary of Labor. Effective July 26, 2002.

Department of State

Member to the Director, Policy Planning Staff. Effective July 3, 2002.

Special Assistant to the Assistant Secretary for Economic and Business Affairs. Effective July 8, 2002.

(Press Officer) Public Affairs Specialist to the Assistant Secretary for Public Affairs. Effective July 23, 2002.

Department of Transportation

Counselor to the Deputy Secretary of Transportation. Effective July 9, 2002.

Counselor to the Associate Deputy Secretary. Effective July 30, 2002.

Environmental Protection Agency

Chief of Staff to the Assistant Administrator, Office of Air and Radiation. Effective July 3, 2002.

Special Assistant (Advance Person) to the Administrator. Effective July 25, 2002.

Export-Import Bank of the United States

Special Assistant to the Vice President for Public Affairs. Effective July 11, 2002.

Federal Emergency Management Agency

Special Assistant (Coordination/Advance) to the Director. Effective July 3, 2002.

Director, Congressional and Legislative Affairs Division to the Assistant Director, External Affairs. Effective July 9, 2002.

Special Assistant to the Deputy Director, Federal Emergency Management Agency. Effective July 9, 2002.

Staff Assistant to the General Counsel. Effective July 11, 2002.

Special Assistant to the Deputy Director, Federal Emergency Management Agency. Effective July 17, 2002.

General Services Administration

Confidential Assistant to the Chief of Staff. Effective July 9, 2002.

Senior Advisor to the Associate Administrator for Congressional and Intergovernmental Affairs. Effective July 22, 2002.

Deputy Associate Administrator for Enterprise Development to the Associate Administrator for Enterprise Development. Effective July 23, 2002.

Director of Administration to the Chief of Staff. Effective July 29, 2002.

National Endowment for the Arts

Special Assistant to the Director, Office of Congressional and White House Liaison. Effective July 23, 2002.

National Endowment for the Humanities

General Counsel to the Chairman. Effective July 9, 2002.

Office of Personnel Management

Project Director, Public and Constituent Services to the Director, Office of Communications. Effective July 31, 2002.

Office of Science and Technology Policy

Assistant Associate Director for Telecommunications and Information Technology to the Associate Director for Technology. Effective July 26, 2002.

Small Business Administration

Director of Advisor Councils to the Associate Administrator for Communications and Public Liaison. Effective July 17, 2002.

Senior Advisor to the Deputy Administrator. Effective July 23, 2002.

Special Assistant to the Administrator, Small Business Administration. Effective July 29, 2002.

United States Tax Court

Trial Clerk to the Judge. Effective July 17, 2002.

Trial Clerk to the Judge. Effective July 17, 2002.

United States Trade and Development Agency

Congressional Liaison Officer to the Chief of Staff. Effective July 3, 2002.

Authority: 5 U.S.C. 3301 and 3302; E.O. 10577, 3 CFR 1954-1958 Comp., P.218

Office of Personnel Management.
Kay Coles James,
Director.

[FR Doc. 02-21409 Filed 8-22-02; 8:45 am]

BILLING CODE 6325-38-P